DEPARTMENT OF ENERGY

Notice of Availability of Solicitation

AGENCY: Albuquerque Operations Office, Department of Energy.

ACTION: Notice of availability of solicitation—Geothermal Resource Exploration and Definition II (GRED II).

SUMMARY: The U. S. Department of Energy (DOE), Albuquerque Operations Office (AL), anticipates issuing Solicitation No. DE-SC04-02AL67912 for a second program on Geothermal Resource Exploration and Definition. This program is in support of the Geothermal Energy Program and has the primary objective of developing collaborative efforts to support the exploration and definition of new geothermal resources in geographically diverse regions with the objective of providing additional geothermal power. Projects may consist of up to three phases: (1) Phase I is Resource Evaluation and may include new exploration work to discover a probable geothermal resource and select a site for drilling a geothermal exploration well; (2) Phase II is Drilling and Characterization and consists of the drilling of a test well, logging and coring as appropriate, and initial testing of the well; (3) Phase III is Testing and Assessment and consists of long term flow and temperature tests in the well and final assessment of the site. Proposed projects are for up to three years and may begin at any phase, but documentation will be required for all three phases. One or more projects will be funded under the Fiscal Year 2002 funding level of up to $600,000 with a maximum DOE cost share of 80%. Funding for subsequent years is dependent on Congressional appropriations and Departmental priorities.

DATES: The solicitation will be available on April 1, 2002.

FOR FURTHER INFORMATION CONTACT: Erwin E. Fragua, Contract Specialist, DOE/AL, at (505) 845-6442 or by e-mail at efragua@doeal.gov. Fax number is (505) 845-5181/4210.

SUPPLEMENTARY INFORMATION: Applications must be prepared and submitted in accordance with the instructions and forms contained in the solicitation. The solicitation will be available on the Internet at the following web site: http://e-center.doe.gov. All questions concerning this solicitation must be in writing and submitted to the specialist listed above.

Issued in Albuquerque, New Mexico March 21, 2002.
Martha L. Youngblood,
Contracting Officer, Complex Support Branch, Office of Contracts and Procurement.

[FR Doc. 02-7591 Filed 3-28-02; 8:45 am]

BILLING CODE 6450-01-P